FEDERAL COMMUNICATIONS COMMISSION

47 CFR Part 73

[DA 01-2478, MM Docket No. 01-164, RM-10135]

Digital Television Broadcast Service; New Orleans, LA

AGENCY: Federal Communications Commission.

ACTION: Final rule.

SUMMARY: The Commission, at the request of LeSEA Broadcasting Corporation, licensee of station WHNO(TV), NTSC channel 20, New Orleans, Louisiana, substitutes DTV channel 21c for DTV channel 14 at New Orleans. See 66 FR 40958, August 6, 2001. DTV channel 21c can be allotted to New Orleans, Louisiana, in compliance with the principle community coverage requirements of Section 73.625(a) at reference coordinates (29-55-11 N. and 90-01-29 W.) with a power of 300, HAAT of 254 meters and with a DTV service population of 1532 thousand.

With this action, this proceeding is terminated.

DATES: Effective December 13, 2001.

FOR FURTHER INFORMATION CONTACT: Pam Blumenthal, Mass Media Bureau, (202) 418-1600.

SUPPLEMENTARY INFORMATION: This is a synopsis of the Commission's Report and Order, MM Docket No. 01-164, adopted October 26, 2001, and released October 29, 2001. The full text of this document is available for public inspection and copying during regular business hours in the FCC Reference Information Center, Portals II, 445 12th Street, S.W., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Louisiana, is amended by removing DTV channel 14 and adding DTV channel 21c at New Orleans.

Federal Communications Commission.
Barbara A. Kreisman,
Chief, Video Services Division, Mass Media Bureau.

[FR Doc. 01-27640 Filed 11-2-01; 8:45 am]

BILLING CODE 6712-01-P